POSTAL REGULATORY COMMISSION

[Docket Nos. MC2025-1041; K2025-1040; MC2025-1042; K2025-1041; MC2025-1043; K2025-1042; MC2025-1044; K2025-1043; MC2025-1045; K2025-1044; MC2025-1046; K2025-1045; MC2025-1047; K2025-1046; MC2025-1048; K2025-1047; MC2025-1049; K2025-1048; MC2025-1050; K2025-1049; MC2025-1051; K2025-1050; MC2025-1052; K2025-1051; MC2025-1053; K2025-1052; MC2025-1054; K2025-1053; MC2025-1055; K2025-1054; MC2025-1056; K2025-1055; MC2025-1057; K2025-1056; MC2025-1058; K2025-1057; MC2025-1059; K2025-1058; MC2025-1060; K2025-1059; MC2025-1061; K2025-1060; MC2025-1062; K2025-1061; MC2025-1063; K2025-1062; MC2025-1064; K2025-1063; MC2025-1065; K2025-1064; MC2025-1066; K2025-1065; MC2025-1067; K2025-1066]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: January 15, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (https://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-1041 and K2025-1040; Filing Title: USPS Request to Add Priority Mail Express, Priority Mail & USPS Ground Advantage Contract 1228 to the Competitive Product List and Notice of Filing Materials Under Seal; Filing Acceptance Date: January 6, 2025; Filing Authority: 39 U.S.C. 3642, 39 CFR 3035.105, and 39 CFR 3041.310; Public Representative: Almaroof Agoro; Comments Due: January 15, 2025.

2. Docket No(s).: MC2025-1042 and K2025-1041; Filing Title: USPS Request to Add Priority Mail Express, Priority Mail & USPS Ground Advantage Contract 1229 to the Competitive Product List and Notice of Filing Materials Under Seal; Filing Acceptance Date: January 6, 2025; Filing Authority: 39 U.S.C. 3642, 39 CFR 3035.105, and 39 CFR 3041.310; Public Representative: Almaroof Agoro; Comments Due: January 15, 2025.

3. Docket No(s).: MC2025-1043 and K2025-1042; Filing Title: USPS Request to Add Priority Mail & USPS Ground Advantage Contract 583 to the Competitive Product List and Notice of Filing Materials Under Seal; Filing Acceptance Date: January 6, 2025; Filing Authority: 39 U.S.C. 3642, 39 CFR 3035.105, and 39 CFR 3041.310; Public Representative: Almaroof Agoro; Comments Due: January 15, 2025.

4. Docket No(s).: MC2025-1044 and K2025-1043; Filing Title: USPS Request to Add Priority Mail & USPS Ground Advantage Contract 584 to the Competitive Product List and Notice of Filing Materials Under Seal; Filing Acceptance Date: January 6, 2025; Filing Authority: 39 U.S.C. 3642, 39 CFR 3035.105, and 39 CFR 3041.310; Public Representative: Almaroof Agoro; Comments Due: January 15, 2025.

5. Docket No(s).: MC2025-1045 and K2025-1044; Filing Title: USPS Request to Add Priority Mail & USPS Ground Advantage Contract 585 to the Competitive Product List and Notice of Filing Materials Under Seal; Filing Acceptance Date: January 6, 2025; Filing Authority: 39 U.S.C. 3642, 39 CFR 3035.105, and 39 CFR 3041.310; Public Representative: Kenneth Moeller; Comments Due: January 15, 2025.

6. Docket No(s).: MC2025-1046 and K2025-1045; Filing Title: USPS Request to Add Priority Mail & USPS Ground Advantage Contract 586 to the Competitive Product List and Notice of Filing Materials Under Seal; Filing Acceptance Date: January 6, 2025; Filing Authority: 39 U.S.C. 3642, 39 CFR 3035.105, and 39 CFR 3041.310; Public Representative: Kenneth Moeller; Comments Due: January 15, 2025.

7. Docket No(s).: MC2025-1047 and K2025-1046; Filing Title: USPS Request to Add Priority Mail Express, Priority Mail & USPS Ground Advantage Contract 1230 to the Competitive Product List and Notice of Filing Materials Under Seal; Filing Acceptance Date: January 6, 2025; Filing Authority: 39 U.S.C. 3642, 39 CFR 3035.105, and 39 CFR 3041.310; Public Representative: Kenneth Moeller; Comments Due: January 15, 2025.

8. Docket No(s).: MC2025-1048 and K2025-1047; Filing Title: USPS Request to Add Priority Mail Express, Priority Mail & USPS Ground Advantage Contract 1231 to the Competitive Product List and Notice of Filing Materials Under Seal; Filing Acceptance Date: January 6, 2025; Filing Authority: 39 U.S.C. 3642, 39 CFR 3035.105, and 39 CFR 3041.310; Public Representative: Maxine Bradley; Comments Due: January 15, 2025.

9. Docket No(s).: MC2025-1049 and K2025-1048; Filing Title: USPS Request to Add Priority Mail Express, Priority Mail & USPS Ground Advantage Contract 1232 to the Competitive Product List and Notice of Filing Materials Under Seal; Filing Acceptance Date: January 6, 2025; Filing Authority: 39 U.S.C. 3642, 39 CFR 3035.105, and 39 CFR 3041.310; Public Representative: Maxine Bradley; Comments Due: January 15, 2025.

10. Docket No(s).: MC2025-1050 and K2025-1049; Filing Title: USPS Request to Add Priority Mail Express, Priority Mail & USPS Ground Advantage Contract 1233 to the Competitive Product List and Notice of Filing Materials Under Seal; Filing Acceptance Date: January 6, 2025; Filing Authority: 39 U.S.C. 3642, 39 CFR 3035.105, and 39 CFR 3041.310; Public Representative: Maxine Bradley; Comments Due: January 15, 2025.

11. Docket No(s).: MC2025-1051 and K2025-1050; Filing Title: USPS Request to Add Priority Mail Express, Priority Mail & USPS Ground Advantage Contract 1234 to the Competitive Product List and Notice of Filing Materials Under Seal; Filing Acceptance Date: January 6, 2025; Filing Authority: 39 U.S.C. 3642, 39 CFR 3035.105, and 39 CFR 3041.310; Public Representative: Maxine Bradley; Comments Due: January 15, 2025.

12. Docket No(s).: MC2025-1052 and K2025-1051; Filing Title: USPS Request to Add Priority Mail Express, Priority Mail & USPS Ground Advantage Contract 1235 to the Competitive Product List and Notice of Filing Materials Under Seal; Filing Acceptance Date: January 6, 2025; Filing Authority: 39 U.S.C. 3642, 39 CFR 3035.105, and 39 CFR 3041.310; Public Representative: Katalin Clendenin; Comments Due: January 15, 2025.

13. Docket No(s).: MC2025-1053 and K2025-1052; Filing Title: USPS Request to Add Priority Mail Express, Priority Mail & USPS Ground Advantage Contract 1236 to the Competitive Product List and Notice of Filing Materials Under Seal; Filing Acceptance Date: January 6, 2025; Filing Authority: 39 U.S.C. 3642, 39 CFR 3035.105, and 39 CFR 3041.310; Public Representative: Katalin Clendenin; Comments Due: January 15, 2025.

14. Docket No(s).: MC2025-1054 and K2025-1053; Filing Title: USPS Request to Add Priority Mail Express, Priority Mail & USPS Ground Advantage Contract 1237 to the Competitive Product List and Notice of Filing Materials Under Seal; Filing Acceptance Date: January 6, 2025; Filing Authority: 39 U.S.C. 3642, 39 CFR 3035.105, and 39 CFR 3041.310; Public Representative: Gregory Stanton; Comments Due: January 15, 2025.

15. Docket No(s).: MC2025-1055 and K2025-1054; Filing Title: USPS Request to Add Priority Mail Express, Priority Mail & USPS Ground Advantage Contract 1238 to the Competitive Product List and Notice of Filing Materials Under Seal; Filing Acceptance Date: January 6, 2025; Filing Authority: 39 U.S.C. 3642, 39 CFR 3035.105, and 39 CFR 3041.310; Public Representative: Katalin Clendenin; Comments Due: January 15, 2025.

16. Docket No(s).: MC2025-1056 and K2025-1055; Filing Title: USPS Request to Add Priority Mail Express, Priority Mail & USPS Ground Advantage Contract 1241 to the Competitive Product List and Notice of Filing Materials Under Seal; Filing Acceptance Date: January 6, 2025; Filing Authority: 39 U.S.C. 3642, 39 CFR 3035.105, and 39 CFR 3041.310; Public Representative: Katalin Clendenin; Comments Due: January 15, 2025.

17. Docket No(s).: MC2025-1057 and K2025-1056; Filing Title: USPS Request to Add Priority Mail Express, Priority Mail & USPS Ground Advantage Contract 1242 to the Competitive Product List and Notice of Filing Materials Under Seal; Filing Acceptance Date: January 6, 2025; Filing Authority: 39 U.S.C. 3642, 39 CFR 3035.105, and 39 CFR 3041.310; Public Representative: Gregory Stanton; Comments Due: January 15, 2025.

18. Docket No(s).: MC2025-1058 and K2025-1057; Filing Title: USPS Request to Add Priority Mail Express, Priority Mail & USPS Ground Advantage Contract 1243 to the Competitive Product List and Notice of Filing Materials Under Seal; Filing Acceptance Date: January 6, 2025; Filing Authority: 39 U.S.C. 3642, 39 CFR 3035.105, and 39 CFR 3041.310; Public Representative: Jennaca Upperman; Comments Due: January 15, 2025.

19. Docket No(s).: MC2025-1059 and K2025-1058; Filing Title: USPS Request to Add Priority Mail & USPS Ground Advantage Contract 587 to the Competitive Product List and Notice of Filing Materials Under Seal; Filing Acceptance Date: January 6, 2025; Filing Authority: 39 U.S.C. 3642, 39 CFR 3035.105, and 39 CFR 3041.310; Public Representative: Jennaca Upperman; Comments Due: January 15, 2025.

20. Docket No(s).: MC2025-1060 and K2025-1059; Filing Title: USPS Request to Add Priority Mail Express, Priority Mail & USPS Ground Advantage Contract 1244 to the Competitive Product List and Notice of Filing Materials Under Seal; Filing Acceptance Date: January 6, 2025; Filing Authority: 39 U.S.C. 3642, 39 CFR 3035.105, and 39 CFR 3041.310; Public Representative: Christopher Mohr; Comments Due: January 15, 2025.

21. Docket No(s).: MC2025-1061 and K2025-1060; Filing Title: USPS Request to Add Priority Mail & USPS Ground Advantage Contract 588 to the Competitive Product List and Notice of Filing Materials Under Seal; Filing Acceptance Date: January 6, 2025; Filing Authority: 39 U.S.C. 3642, 39 CFR 3035.105, and 39 CFR 3041.310; Public Representative: Christopher Mohr; Comments Due: January 15, 2025.

22. Docket No(s).: MC2025-1062 and K2025-1061; Filing Title: USPS Request to Add Priority Mail Express, Priority Mail & USPS Ground Advantage Contract 1245 to the Competitive Product List and Notice of Filing Materials Under Seal; Filing Acceptance Date: January 6, 2025; Filing Authority: 39 U.S.C. 3642, 39 CFR 3035.105, and 39 CFR 3041.310; Public Representative: Christopher Mohr; Comments Due: January 15, 2025.

23. Docket No(s).: MC2025-1063 and K2025-1062; Filing Title: USPS Request to Add Priority Mail Express, Priority Mail & USPS Ground Advantage Contract 1246 to the Competitive Product List and Notice of Filing Materials Under Seal; Filing Acceptance Date: January 6, 2025; Filing Authority: 39 U.S.C. 3642, 39 CFR 3035.105, and 39 CFR 3041.310; Public Representative: Alain Brou; Comments Due: January 15, 2025.

24. Docket No(s).: MC2025-1064 and K2025-1063; Filing Title: USPS Request to Add Priority Mail Express, Priority Mail & USPS Ground Advantage Contract 1247 to the Competitive Product List and Notice of Filing Materials Under Seal; Filing Acceptance Date: January 6, 2025; Filing Authority: 39 U.S.C. 3642, 39 CFR 3035.105, and 39 CFR 3041.310; Public Representative: Alain Brou; Comments Due: January 15, 2025.

25. Docket No(s).: MC2025-1065 and K2025-1064; Filing Title: USPS Request to Add Priority Mail Express, Priority Mail & USPS Ground Advantage Contract 1248 to the Competitive Product List and Notice of Filing Materials Under Seal; Filing Acceptance Date: January 6, 2025; Filing Authority: 39 U.S.C. 3642, 39 CFR 3035.105, and 39 CFR 3041.310; Public Representative: Jana Slovinska; Comments Due: January 15, 2025.

26. Docket No(s).: MC2025-1066 and K2025-1065; Filing Title: USPS Request to Add Priority Mail Express, Priority Mail & USPS Ground Advantage Contract 1249 to the Competitive Product List and Notice of Filing Materials Under Seal; Filing Acceptance Date: January 6, 2025; Filing Authority: 39 U.S.C. 3642, 39 CFR 3035.105, and 39 CFR 3041.310; Public Representative: Jana Slovinska; Comments Due: January 15, 2025.

27. Docket No(s).: MC2025-1067 and K2025-1066; Filing Title: USPS Request to Add Priority Mail & USPS Ground Advantage Contract 589 to the Competitive Product List and Notice of Filing Materials Under Seal; Filing Acceptance Date: January 6, 2025; Filing Authority: 39 U.S.C. 3642, 39 CFR 3035.105, and 39 CFR 3041.310; Public Representative: Jana Slovinska; Comments Due: January 15, 2025.

III. Summary Proceeding(s)

None. See Section II for public proceedings.

This Notice will be published in the Federal Register.

Erica A. Barker,
Secretary.

[FR Doc. 2025-00522 Filed 1-13-25; 8:45 am]

BILLING CODE 7710-FW-P